FEDERAL COMMUNICATIONS COMMISSION

47 CFR Parts 0, 1, 61 and 69

[CC Docket No. 96-262; DA 00-2751]

CLEC Access Charge Reform

AGENCY: Federal Communications Commission.

ACTION: Notice of proposed rulemaking.

SUMMARY: This document seeks additional comment in connection with an ongoing FCC proceeding considering whether and how to reform the manner in which competitive local exchange carriers (CLECs) may tariff the charges for the switched local exchange access service that they provide to inter-exchange carriers (IXCs). Specifically, it seeks comment on the possibility of a rural exemption to a benchmarking mechanism under consideration and information about the level of CLEC access charges.

DATES: Submit comment on or before December 27, 2000.

Submit reply comments on or before January 11, 2001.

ADDRESSES: Send comments to Magalie Roman Salas, Office of the Secretary, Federal Communications Commission, 445 Twelfth St., SW., Room TW-A325, Washington, DC 20554. Or comments may be filed electronically via the Internet at http://www.fcc.gov/e-file/ecfs.html.

FOR FURTHER INFORMATION CONTACT: Scott K. Bergmann, 202-418-0940, or Jeffrey H. Dygert, 202-418-1500.

SUPPLEMENTARY INFORMATION: The FCC's Common Carrier Bureau (the Bureau) seeks comment on the following issues.

Scope of a Rural Exemption to Benchmarked Rates: Many of the comments previously submitted in the access charge reform docket have advocated establishing a benchmark for CLEC access charges so that charges at or below the benchmark would be presumed to be just and reasonable. These proposals have suggested a benchmark that could apply to a broad range of CLECs with widely varying cost characteristics and operating in many different markets.

It may be problematic to limit all CLECs to a single benchmarked rate, regardless of the characteristics of the market that they serve. Thus, the Commission has previously raised the prospect that a benchmark might vary depending on whether the CLEC serves high cost areas or low cost areas. The Bureau seeks additional comment on whether and how to create a “rural exemption” that would prevent a CLEC operating in a rural or high-cost areas from being subject to a benchmark that may be more appropriate for CLECs doing business in more concentrated, urbanized areas. Is such an exemption necessary? How should the Commission define the types of areas in which such a rural exemption would be available to CLECs? Can the definition be premised on the Communications Act's definition of “rural telephone company”? 47 U.S.C. 154(37). Should the exemption apply to all areas that fall outside of the defined metropolitan statistical areas? Should the availability of a rural exemption turn instead on the overall population density within a particular CLEC's service area, or should it turn on the density of the CLEC's customers within its service area? If population density is the appropriate factor, commenters are requested to propose what density figure should serve as the cut-off for the availability of a rural exemption and to explain why that number is the appropriate one. Should the Commission tie such and exemption to the presence, within the CLEC's service area, of a town or incorporated place with a certain population? Should a CLEC be required to qualify for and receive rural or high-cost universal service support before it could avail itself of such a rural exemption?

How should a rural exemption apply where, within a single service area, a CLEC serves customers that reside in areas of markedly different density? Is it feasible for a CLEC to charge different access rates within a single service area depending on the population density surrounding particular end users? Should the availability of such an exemption be determined by the actual location of a CLEC's customers or by the location of a CLEC's switch or some other portion of its network?

Should a rural exemption be tied to the volume of access traffic generated by a CLEC's customers? Thus, should a CLEC serving primarily or exclusively a large institution, or some other high-volume user, qualify for the rural exemption? Alternatively, should the availability of the rural exemption be tied to the number or type of a CLEC's customers? The Bureau also solicits any additional comments that may bear on the appropriate definition or limitation of a rural exemption to benchmark rates for CLEC access service. Specifically, comment is invited on the proposed definitions for a rural exemption submitted, as ex partes in this docket, by the Rural Independent Competitive Alliance and by Sprint Corporation.

CLEC Access Rates: The Bureau seeks additional information on how CLEC access rates compare to ILEC rates. For example, should the multi-line business presubscribed interexchange carrier charge (PICC) or other charges be included in ILEC access revenue when comparing incumbents' and competitors' rates for switched access service? Additional specific information is also sought on the level of CLEC access rates. Thus, for example, interested parties are requested to file with the Commission surveys or other data regarding the range of access charges imposed by either CLECs or ILECs.

The Commission has previously conducted an initial regulatory flexibility analysis relating to the issue of CLEC access charges. Pricing Flexibility Order and Notice, 64 FR 51280 (Sept. 22, 1999). The Bureau invites further comment on it at this time. Additionally, the Bureau invites comment on significant alternatives for the reform of CLEC access charges that would: establish different compliance requirements for small entities; clarify, consolidate or simplify compliance requirements for small entities; or exempt small entities from coverage.

List of Subjects

47 CFR Part 0

Organization and functions.

47 CFR Part 1

Administrative practice and procedures, Communications common carrier, telecommunications.

47 CFR Part 61

Communications common carriers, Tariffs.

47 CFR Part 69

Communications common carriers, Access charges.

Federal Communications Commission.
Shirley Suggs,
Chief, Publications Group.

[FR Doc. 00-31713 Filed 12-11-00; 8:45 am]

BILLING CODE 6712-01-M